DEPARTMENT OF ENERGY

Federal Energy Regulatory Commission

[Docket No. EL04-105-001, et al.]

PJM Interconnection, L.L.C., et al.; Electric Rate and Corporate Filings

January 14, 2005.

The following filings have been made with the Commission. The filings are listed in ascending order within each docket classification.

1. PJM Interconnection, L.L.C.

[Docket Nos. EL04-105-001, ER04-742-003]

Take notice that on January 7, 2005, PJM Interconnection, L.L.C. (PJM), submitted in compliance with the Commission's May 28, 2004 Order in this proceeding, 107 FERC ¶61, 223, revisions to the PJM open access transmission tariff and an amended and restated operating agreement of PJM concerning rules for allocating auction revenue rights and financial transmission rights on the PJM system. PJM requests that the submitted revisions become effective on March 8, 2005.

PJM states that copies of this filing were served upon all persons on the service list, as well as all PJM members, and each state electric utility regulatory commission in the PJM region.

Comment Date: 5 p.m. Eastern Time on January 28, 2005.

2. Rainbow Energy Marketing Corporation

[Docket No. ER94-1061-026]

Take notice that on January 7, 2005, Rainbow Energy Marketing Corporation (Rainbow) tendered for filing a limited amendment to its December 15, 2004 filing, amending its FERC Electric Tariff, Original Volume No. 1. Among other things, the amendment would allow Rainbow to: (1) Sell ancillary services at wholesale at market-based rates; (2) reassign transmission capacity in accordance with the conditions established by the Commission; and (3) unilaterally modify the tariff.

Comment Date: 5 p.m. Eastern Time on January 28, 2005.

3. Mirant California, LLC; Mirant Delta, LLC; Mirant Potrero, LLC; Mirant Chalk Point, LLC; Mirant Mid-Atlantic, LLC; Mirant Peaker, LLC; Mirant Potomac River, LLC; Mirant Zeeland, LLC

[Docket Nos. ER01-1267-004, ER01-1270-004, ER01-1278-003, ER01-1269-003, ER01-1273-003, ER01-1276-003, ER01-1277-003, ER01-1263-003]

Take notice that on January 4, 2005, the above-referenced entities, collectively the “Mirant Entities” amended their compliance filing submitted on November 9, 2004, to include Attachment H, market behavior rules for Mirant Zeeland, LLC. The Mirant Entities states that Attachment H was inadvertently omitted from their compliance filing.

Comment Date: 5 p.m. Eastern Time on January 25, 2005.

4. Southern California Edison Company

[Docket No. ER04-435-007]

Take notice that, on January 5, 2005, Southern California Edison Company (SCE) submitted a revised compliance filing pursuant to the Commission's Order 2003, Standardization of Generator Interconnection Agreements and Procedures, issued August 19, 2003 in Docket No. RM02-1-000.

SCE states that copies of the filing were served on parties on the official service list in the above-captioned proceeding.

Comment Date: 5 p.m. Eastern Time on January 26, 2005.

5. San Diego Gas & Electric Company

[Docket No. ER04-441-005]

Take notice that on January 5, 2005, San Diego Gas & Electric Company (SDG&E) tendered for filing its transmission owner tariff (TO Tariff), FERC Electric Tariff, Original Volume No. 11 and the first revised rate sheets for its TO Tariff. SDG&E requests the Commission to set an effective date for the revised TO sheets on the date on which the Commission accepts the California ISO's, Pacific Gas & Electric Company's, SDG&E's, and Southern California Edison Company's Order 2003 and Order 2003-A compliance filings. Alternatively SDG&E seeks an effective date for the date on which the Commission accepts the instant filings.

SDG&E states that copies of this filing were served upon the California Public Utilities Commission.

Comment Date: 5 p.m. Eastern Time on January 26, 2005.

6. Pacific Gas and Electric Company, San Diego Gas & Electric Company, Southern California Edison Company

[Docket Nos. ER04-435-008, ER04-441-004, ER04-443-004]

Take notice that on January 5, 2005, California Independent System Operator Corporation (ISO), Pacific Gas and Electric Company (PG&E), San Diego Gas and Electric Company (SDG&E), and Southern California Edison Company (SCE) (collectively the Filing Parties) pursuant to section 205 of the Federal Power Act jointly submitted for filing a Standard Large Generator Interconnection Agreement in compliance with Order Nos. 2003 and 2003-A, and the Commission's July 30, 2004 “Order Rejecting Order Nos. 2003 and 2003-A Compliance Filings,” 108 FERC ¶61,104 (2004). The Filing Parties state that the Standard Large Generator Interconnection Agreement is intended to function as a stand alone pro forma agreement and is not intended to be incorporated into the tariffs of any of the Filing Parties.

Comment Date: 5 p.m. Eastern Time on January 26, 2005.

7. California Independent System Operator Corporation

[Docket No. ER04-445-006]

Take notice that on January 5, 2005, the California Independent System Operator Corporation (IS)), pursuant to the Commission's July 30, 2004 “Order Rejecting Order Nos. 2003 and 2003-A Compliance Filings,” 108 FERC ¶ 61,104 (July 30 Order), and section 205 of the Federal Power Act, submitted for filing standard large generator interconnection procedures, for incorporation into the ISO tariff, and other proposed modifications to the ISO tariff, in compliance with the July 30 Order.

Comment Date: 5 p.m. Eastern Time on January 26, 2005.

8. Pacific Gas and Electric Company

[Docket Nos. ER04-688-003, ER04-689-004, ER04-690-003, ER04-693-003 (Not Consolidated)]

Take notice that on January 10, 2005, the California Independent System Operator Corporation (ISO) submitted a filing in compliance with the order issued in the captioned dockets on December 3, 2004, 109 FERC ¶ 61,255.

The ISO states that this filing has been served upon all parties on the official service list for the captioned dockets. In addition, the ISO has posted this filing on the ISO Home Page.

Comment Date: 5 p.m. Eastern Time on January 31, 2005.

9. Midwest Independent Transmission System Operator, Inc.; Public Utilities With Grandfathered Agreements in the Midwest ISO Region

[Docket Nos. ER04-691-016, EL04-104-015]

Take notice that on January 7, 2005, the Potomac Economics Ltd., tendered for filing pursuant to FERC's Order on Rehearing issued November 8, 2004, a clarification of the Commission's August 6, 2004 Order Conditionally Accepting Tariff Sheets to Start Energy Markets and Establishing Settlement Judge Procedures on the Midwest Independent Transmission System Operator, Inc.'s open access transmission and energy markets tariff. Potomac Economics Ltd states that it is the independent market monitor for the MISO.

Comment Date: 5 p.m. Eastern Time on January 28, 2005.

10. Midwest Independent Transmission System Operator, Inc.; Public Utilities With Grandfathered Agreements in the Midwest ISO Region

[Docket Nos. ER04-691-017, EL04-104-016]

Take notice that on January 7, 2005, the Midwest Independent Transmission System Operator, Inc. (Midwest ISO) submitted a compliance filing pursuant to the Commission's November 8, 2004 Order, Midwest Independent Transmission System Operator, Inc., et al., 109 FERC ¶ 61,157 (2004). The Midwest ISO has requested a March 1, 2005 effective date for the tariff pages submitted in the compliance filing, and also a waiver of the service requirements set forth in 18 CFR 385.2010.

The Midwest ISO states it has electronically served a copy of this filing, with attachments, upon all Midwest ISO members, member representatives of transmission owners and non-transmission owners, the Midwest ISO Advisory Committee participants, as well as all state commissions within the region. In addition, Midwest ISO further states that the filing has been electronically posted on the Midwest ISO's Web site at http://www.midwestiso.org under the heading “Filings to FERC” for other interested parties in this matter. The Midwest ISO will provide hard copies to any interested parties upon request.

Comment Date: 5 p.m. Eastern Time on January 28, 2005.

11. Midwest Independent Transmission System Operator, Inc.; Midwest Independent Transmission System Operator, Inc.; Midwest Independent Transmission System Operator, Inc.; Ameren Services Co., et al.

[Docket Nos. ER05-6-013, EL04-135-015, EL02-111-033, EL03-212-029]

Take notice that on January 11, 2004, the Midwest Independent Transmission System Operator, Inc. (Midwest ISO) and Midwest ISO Transmission Owners (collectively Applicants) jointly submitted for filing ministerial revisions to proposed Schedules 21 and 22 of the Midwest ISO Open Access Transmission Tariff submitted on November 24, 2004 (as amended on December 1, 2004 and December 17, 2004) in compliance with the Commission's November 18, 2004 order in Docket Nos. ER05-6, EL04-135, EL02-111, and EL03-212, Midwest Indep. Transmission Sys. Operator, Inc., 109 FERC ¶ 61,168 (2004).

Applicants state that copies of the filing were served on parties on the official service list in the above-captioned proceeding.

Comment Date: 5 p.m. Eastern Time on February 1, 2005.

12. American Electric Power Service Corporation

[Docket No. ER05-31-001]

Take notice that on January 11, 2005, the American Electric Power Service Corporation (AEPSC) tendered for filing, pursuant to Commission's deficiency letter dated December 10, 2004, Substitute First Revised FERC Rate Schedule I&M No. 22 between Indiana Michigan Power Company (I&M) and Northern Indiana Public Service Company (NIPSCo). AEP requests an effective date of October 11, 2004.

AEPSC states that a copy of the filing was served upon Northern Indiana Public Service Company and the Indiana Utility Regulatory Commission and Michigan Public Service Commission.

Comment Date: 5 p.m. Eastern Time on February 1, 2005.

13. Delmarva Power & Light Company

[Docket No. ER05-33-001]

Take notice that on January 6, 2005, Delmarva Power & Light Company (Delmarva), tendered for filing an amendment to its October 12, 2004 filing in Docket No. ER05-33-000. Delmarva states this amendment is in response to a deficiency letter issued by the Commission on December 7, 2004.

Comment Date: 5 p.m. Eastern Time on January 27, 2005.

14. Dominion Energy New England, Inc.; Dominion Energy Salem Harbor, LLC; Dominion Energy Brayton Point, LLC; Dominion Energy Manchester Street, Inc.

[Docket Nos. ER05-34-001, ER05-35-001, ER05-36-001, ER05-37-001]

Take notice that on January 10, 2005, Dominion Energy New England, Inc.; Dominion Energy Salem Harbor, LLC; Dominion Energy Brayton Point, LLC; and Dominion Energy Manchester Street, Inc., (collectively, Applicants) submitted their respective compliance filings as required by the Commission's December 10, 2004 Order in the above-referenced dockets.

Applicants state that copies of the filing were served on all parties in this proceeding.

Comment Date: 5 p.m. Eastern Time on January 31, 2005.

15. PJM Interconnection, L.L.C.

[Docket No. ER05-107-001]

Take notice that on January 10, 2005, PJM Interconnection, L.L.C. (PJM), submitted its response to the Commission's December 9, 2004 letter order concerning the service agreement filed by PJM on October 29, 2004 in these proceedings.

PJM states that copies of this filing were served upon all persons on the service list for this docket.

Comment Date: 5 p.m. Eastern Time on January 31, 2005.

16. Pinelawn Power LLC

[Docket No. ER05-305-001]

Take notice that on January 7, 2005, Pinelawn Power LLC (Pinelawn), filed with the Commission, pursuant to section 205 of the Federal Power Act, an “Amended Application for Order Accepting Initial Market Based Rate Tariff and Granting Certain Waivers and Blanket Approvals,” seeking authority to engage in the sale of electric energy, capacity and ancillary services at market-based rates. Pinelawn states that it is engaged in the business of owning and operating a 79.9 MW generation facility located in The Town of Babylon, New York. Pinelawn also seeks certain waivers and blanket approvals under the Commission's Regulations and the issuance of a Commission Order before February 4, 2005, granting the requested effective date of February 4, 2005 for its market based rate tariff.

Pinelawn states that a copy of the filing has been served on the Long Island Power Authority, the entity with which Pinelawn has contracted for the sale of the entire output of its facility.

Comment Date: 5 p.m. Eastern Time on January 24, 2005.

17. Texas-New Mexico Power Company

[Docket No. ER05-393-002]

Take notice that, on January 10, 2005, Texas-New Mexico Power Company (TNMP) tendered for filing two separate certificates of concurrence with respect to the informational filings by attorneys for El Paso Electric Company (EPE) on behalf of El Paso Electric Company (EPE), Public Service Company of New Mexico (PNM), and Texas-New Mexico Power Company (TNMP), with an effective date of January 1, 2005.

TNMP states that copies of the filing have been provided to EPE, PNM, Tri-State, the New Mexico Public Regulation Commission, and the New Mexico Attorney General.

Comment Date: 5 p.m. Eastern Time on January 31, 2005.

18. EnerNOC, Inc.

[Docket No. ER05-422-000]

Take notice that on January 5, 2005, EnerNOC, Inc. (EnerNOC) filed a notice of cancellation of its market-based rate electric tariff, Rate Schedule FERC No. 1, effective January 5, 2005.

EnerNOC states that copies of the filing were not served upon any party, because such cancellation affects no purchasers under EnerNOC's Rate Schedule FERC No. 1.

Comment Date: 5 p.m. Eastern Time on January 26, 2005.

19. Niagara Mohawk Power Corporation

[Docket No. ER05-425-000]

Take notice that on January 7, 2005, Niagara Mohawk Power Corporation, a National Grid Company (Niagara Mohawk) tendered for filing First Revised Original Sheet No. 1 under Niagara Mohawk's Rate Schedule FERC No. 178. Niagara Mohawk states that the tariff sheet submitted was revised to reflect the assignment and assumption of the rights, obligations, and liabilities under the rate schedule by Exelon Generation Company, LLC, from Sithe/independence Power Partners, L.P.

Niagara Mohawk requests an effective date of January 1, 2005, and request waiver of the Commission requirements in section 35.3(a) of the Commission's regulations.

Comment Date: 5 p.m. Eastern Time on January 28, 2005.

20. American Electric Power Service Corporation

[Docket No. ER05-426-000]

Take notice that on January 7, 2005, American Electric Power Service Corporation (AEP), acting as agent for Southwestern Electric Power Company (SWEPCO) submitted for filing an amended East HVDC Interconnection Facilities Use and Maintenance Agreement among SWEPCO, AEP Texas Central Corporation (an affiliate of SWEPCO), Centerpoint Energy Houston Electric (Centerpoint) and Oncor Electric Delivery Company (Oncor). AEP states that the amended agreement includes a revised Appendix B that modifies the methodology for calculating indirect operation and maintenance costs under the existing agreement. AEP requests an effective date of January 1, 2005 for the amended Appendix B of the agreement.

AEP states that it has served copies of the filing on Centerpoint, Oncor, the Public Utility Commission of Texas and the Louisiana Public Service Commission.

Comment Date: 5 p.m. Eastern Time on January 28, 2005.

21. El Paso Electric Company

[Docket No. ER05-427-000]

Take notice that, on January 7, 2005, El Paso Electric Company (EPE) tendered for filing for informational purposes various agreements related to generation ownership, telecommunications, construction and operation/maintenance, settlements, and a power sale agreement. EPE states that it believes that these agreements are non-jurisdictional, or otherwise are not required to be filed, and requests that the Commission so rule. EPE also tendered for filing various amendments that were previously entered into for the Southwest New Mexico Transmission Project Participation Agreement, EPE respectfully requests waiver of the Commission's prior notice requirement so that these amendments may receive effective dates consistent with their contractual terms.

EPE states that copies of this filing were served upon the co-parties to the above-listed agreements.

Comment Date: 5 p.m. Eastern Time on January 28, 2005.

22. New York Independent System Operator, Inc.

[Docket No. ER05-428-000]

Take notice that on January 7, 2005, the New York Independent System Operator, Inc. (NYISO) filed proposed revisions to its market administration and control area services tariff (Services Tariff) to implement installed capacity demand curves for capability years 2005/2006, 2006/2007 and 2007/2008.

NYISO states that it has electronically served a copy of this filing on the official representative of each of its customers, on each participant in its stakeholder committees, and on the New York Public Service Commission. NYISO further states that in addition, the NYISO has served a copy of this filing on the electric utility regulatory agencies of New Jersey and Pennsylvania.

Comment Date: 5 p.m. Eastern Time on January 28, 2005.

23. PacifiCorp

[Docket No. ER05-429-000]

Take notice that on January 7, 2005, PacifiCorp tendered for filing pursuant to 18 CFR 35 of the Commission's Rules and Regulations, Supplement No. 6 to the February 25, 1976 Transmission Agreement between PacifCorp and Tri-State Generation and Transmission Association, Inc.

PacifiCorp states that copies of this filing were sent to the Public Utility Commission of Oregon, the Washington Utilities and Transportation Commission and Tri-State.

Comment Date: 5 p.m. Eastern Time on January 28, 2005.

24. El Paso Electric Company

[Docket No. ER05-430-000]

Take notice that on January 7, 2005, El Paso Electric Company (EPE) tendered for filing Notices of Cancellation for FERC Rate Schedule Nos. 59 and 63. EPE states that these rate schedules are associated with agreements originally executed between EPE and Texas-New Mexico Power Company and Salt River Project Agricultural Improvement and Power District. EPE requests an effective date for the cancellation notices of April 1, 1988 for Rate Schedule No. 59, and May 1, 202 for Rate Schedule No. 63.

EPE states that copies of this filing were served upon Texas-New Mexico Power Company and Salt River Project.

Comment Date: 5 p.m. Eastern Time on January 28, 2005.

25. PECO Energy Company

[Docket No. ER05-431-000]

Take notice that on January 10, 2005, Exelon Corporation, on behalf of its subsidiary PECO Energy Company, submitted to the Commission an executed Interconnection Agreement by and between PECO Energy Company and Delmarva Power and Light Company for the Bradford-Colora-Conowingo 230 kV Interconnection, and designated as Service Agreement No. 1201 under the open access transmission tariff of PJM Interconnection L.L.C., PJM FERC Electric Tariff, Sixth Revised Volume No. 1.

Exelon Corporation states that copies of the proposed agreement has been served on Delmarva Power & Light Company and on PJM Interconnection, L.L.C.

Comment Date: 5 p.m. Eastern Time on January 31, 2005.

26. American Electric Power Service Corporation

[Docket No. ER05-432-000]

Take notice that on January 10, 2005, the American Electric Power Service Corporation (AEPSC) tendered for filing as Original Service Agreement No. 622 under FERC Electric Tariff, Third Revised Volume No. 6, an executed Letter Agreement (Agreement) for the establishment of a delivery point at Middleboro, Ohio between Ohio Power Company and Dayton Power & Light. AEP requests an effective date of November 30, 2004.

AEPSC states that a copy of the filing was served upon Dayton Power & Light and Public Utilities Commission of Ohio.

Comment Date: 5 p.m. Eastern Time on January 31, 2005.

27. Duke Energy Corporation

[Docket No. ER05-433-000]

Take notice that on January 10, 2005, Duke Energy Corporation, on behalf of Duke Electric Transmission, (collectively, Duke) submitted a revised Network Integration Service Agreement (NITSA) with North Carolina Municipal Power Agency Number 1 (NCMPA), which is designated as Third Revised Service Agreement No. 212 under Duke Electric Transmission FERC Electric Tariff Third Revised Volume No. 4.

Duke states that copies of the filing were served upon NCMPA and the South Carolina and North Carolina state public service commissions.

Comment Date: 5 p.m. Eastern Time on January 31, 2005.

28. American Electric Power Service Corporation

[Docket No. ER05-435-000]

Take notice that on January 11, 2005, the American Electric Power Service Corporation (AEPSC) tendered for filing pursuant to section 35.15 of the Commission's regulations, a Notice of Cancellation of an executed Interconnection and Operation Agreement between Kentucky Power Company and Kentucky Mountain Power, LLC, designated as Service Agreement No. 312 under American Electric Power Operating Companies' Open Access Transmission Tariff. AEP requests an effective date of January 10, 2005.

AEPSC states that a copy of the filing was served upon Kentucky Mountain Power, L.L.C. and the Kentucky Public Service Commission.

Comment Date: 5 p.m. Eastern Time on February 1, 2005.

29. Avista Corporation

[Docket No. ER05-436-000]

Take notice that on January 11, 2005, Avista Corporation, submitted a non-conforming long-term service agreement between Avista Corporation and Sovereign Power, Inc., Avista Corporation FERC Rate Schedule 319, for the sale of dynamic capacity at cost-based rates under Avista Corporation's FERC Electric Tariff Volume No. 10 and energy under Avista Corporation's FERC Electric Tariff Volume No. 9, effective January 23, 2005.

Avista states that copies of the filing were served upon Sovereign Power, Inc.

Comment Date: 5 p.m. Eastern Time on February 1, 2005.

30. Avista Corporation

[Docket No. ER05-437-000]

Take notice that on January 11, 2005, Avista Corporation (AVA) tendered for filing a Notice of Cancellation on rate schedule designation Service Agreement No. 15 With Cogentrix Energy Power Marketing, Inc. AVA requests an effective date of January 23, 2005.

AVA states that copies of this cancellation were served upon Cogentrix Energy Power Marketing, Inc.

Comment Date: 5 p.m. Eastern Time on February 1, 2005.

31. Wabash Valley Power Association, Inc.

[Docket No. ER05-438-000]

Take notice that on January 12, 2005, Wabash Valley Power Association, Inc. (Wabash Valley) submitted for filing Supplemental Agreements to the Wholesale Power Supply Contracts between Wabash Valley and two of its Members, Midwest Energy Cooperative, Inc. (“Midwest”) and Paulding-Putnam Electric Cooperative, Inc. Wabash Valley requests an effective date of January 1, 2005.

Wabash Valley states that copies of the filing were served upon each of Wabash Valley's Members and the public utility commissions in Illinois, Indiana, Michigan and Ohio.

Comment Date: 5 p.m. Eastern Time on February 2, 2005.

32. ISO New England Inc.

[Docket No. ER05-439-000]

Take notice that on January 11, 2005, ISO New England Inc. (ISO) submitted an application pursuant to section 205 of the Federal Power Act to revise RTO Market Rule 1 and conforming changes to appendix F of Market Rule 1, affecting the allocation of Real-Time RMR Operating Reserve charges.

The ISO states that copies of the filing have been served on all NEPOOL Participants, and the Governors and utility regulatory agencies of the New England States.

Comment Date: 5 p.m. Eastern Time on February 1, 2005.

Standard Paragraph

Any person desiring to intervene or to protest this filing must file in accordance with Rules 211 and 214 of the Commission's Rules of Practice and Procedure (18 CFR 385.211 and 385.214). Protests will be considered by the Commission in determining the appropriate action to be taken, but will not serve to make protestants parties to the proceeding. Any person wishing to become a party must file a notice of intervention or motion to intervene, as appropriate. Such notices, motions, or protests must be filed on or before the comment date. Anyone filing a motion to intervene or protest must serve a copy of that document on the Applicant and all parties to this proceeding.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Magalie R. Salas,
Secretary.

[FR Doc. E5-297 Filed 1-25-05; 8:45 am]

BILLING CODE 6717-01-P